COMMISSION ON CIVIL RIGHTS

Agenda and Notice of Public Meeting of the New York Advisory Committee

Notice is hereby given, pursuant to the provisions of the rules and regulations of the U.S. Commission on Civil Rights (Commission), and the Federal Advisory Committee Act (FACA), that a briefing meeting of the New York Advisory Committee to the Commission will convene at 8:30 a.m. (EDT) on Thursday, July 10, 2014, in the Greenberg Lounge at the New York University Law School, 40 Washington Square South, New York, NY 10012. The purpose of the briefing meeting is to hear from government officials, advocates, citizens, and others to examine the use of solitary confinement for juveniles in New York.

Members of the public are entitled to submit written comments. The comments must be received in the regional office by Monday, August 11, 2014. Comments may be mailed to the Eastern Regional Office, U.S. Commission on Civil Rights, 1331 Pennsylvania Avenue, Suite 1150, Washington, DC 20425, faxed to (202) 376-7548, or emailed to Melanie Reingardt at ero@usccr.gov. Persons who desire additional information may contact the Eastern Regional Office at 202-376-7533.

Persons needing accessibility services should contact the Eastern Regional Office at least 10 working days before the scheduled date of the meeting.

Records generated from this meeting may be inspected and reproduced at the Eastern Regional Office, as they become available, both before and after the meeting. Persons interested in the work of this advisory committee are advised to go to the Commission's Web site, www.usccr.gov, or to contact the Eastern Regional Office at the above phone number, email, or street address.

The meeting will be conducted pursuant to the provisions of the rules and regulations of the Commission and FACA.

Dated in Washington, DC, on June 19, 2014.
Marlene Sallo,
Staff Director.

[FR Doc. 2014-14668 Filed 6-23-14; 8:45 am]

BILLING CODE 6335-01-P